DEPARTMENT OF AGRICULTURE

Forest Service

Newspapers of Record for the Pacific Southwest Region; California

AGENCY: Forest Service, USDA.

ACTION: Notice.

SUMMARY: This notice lists the newspapers that will be used by all Ranger Districts, Forests, and the Regional Office of the Pacific Southwest Region to publish legal notices of all decisions subject to appeal under 36 CFR parts 215 and 217 and to publish notices for public comment and notice of decision subject to the provisions of 36 CFR part 215. Further these newspapers will become the newspapers of record for planning as defined in 36 CFR 219.16 and by notification required under 36 CFR part 218. The intended effect of this action is to inform interested members of the public which newspapers will be used to publish legal notices for public comment or decisions; thereby allowing them to receive constructive notice of a decision, to provide clear evidence of timely notice, and to achieve consistency in administering the appeals and objection processes.

DATES: Publication of legal notices in the listed newspapers will begin with decisions subject to appeal that are made after publication of this notice in the Federal Register. The list of newspapers will remain in effect until another notice is published in the Federal Register.

FOR FURTHER INFORMATION CONTACT: Sue Danner, Regional Appeals and Litigation Manager, Pacific Southwest Region, 1323 Club Drive, Vallejo, California 94592, 707-562-8945.

SUPPLEMENTARY INFORMATION: On June 4, 2003, updated CFR part 215 was published requiring publication of legal notice of decisions subject to appeal. On January 5, 2005, a final rule concerning 36 CFR part 219 was published requiring publication of legal notices as required by 36 CFR 215.5. The newspaper(s) of record for projects in a plan area is (are) the newspaper(s) of record for notices related to planning. Sections 215.5, 217.5, 218.2, and 219.16 require notice published in the Federal Register advising the public of the principal newspapers to be utilized for publishing legal notices. This newspaper publication of notices of decisions is in addition to direct notice to those who have requested notice in writing and to those known to be interested and affected by a specific decision.

In addition to the primary newspaper listed for each unit, some Forest Supervisors and District Rangers have listed newspapers providing additional notice of their decisions. The timeframe for appeal shall be based on the date of publication of the notice in the first (primary) newspaper listed for each unit.

The newspapers to be used are as follows:

Pacific Southwest Regional Office

Regional Forester Decisions

Sacramento Bee, published daily in Sacramento, Sacramento County, California, for decisions affecting National Forest System lands and for any decision of Region-wide impact.

Angeles National Forest, California

Forest Supervisor Decisions

Los Angeles Times, published daily in Los Angeles, Los Angeles County, California.

District Rangers Decisions

Los Angeles River Ranger District:

Daily News, published daily in Los Angeles, Los Angeles County, California.

Newspapers providing additional notice of Los Angeles River District Ranger decisions:

Pasadena Star News, published in Pasadena, Los Angeles County, California; and

Foothill Leader, published in Glendale, Los Angeles County, California.

San Gabriel River Ranger District:

Inland Valley Bulletin, published daily in Los Angeles, Los Angeles County, California.

Newspaper providing additional notice of San Gabriel River District Ranger decisions:

San Gabriel Valley Tribune, published in the eastern San Gabriel Valley, West Covina, Los Angeles County, California.

Santa Clara/Mojave Rivers Ranger District:

Daily News, published daily in Los Angeles, Los Angeles County, California.

Newspapers providing additional notice of Santa Clara/Mojave Rivers District Ranger decisions:

Antelope Valley Press, published in Palmdale, Los Angeles County, California; and Mountaineer Progress, published in Wrightwood, California.

Cleveland National Forest, California

Forest Supervisor Decisions

San Diego Union-Tribune, published daily in San Diego, San Diego County, California.

District Rangers Decisions

Descanso Ranger District:

San Diego Union-Tribune, published daily in San Diego, San Diego County, California.

Palomar Ranger District:

San Diego Union-Tribune, published daily in San Diego, San Diego County, California.

Newspaper providing additional notice of Palomar District Ranger decisions:

Riverside Press Enterprise, published daily in Riverside, Riverside County, California.

Trabuco Ranger District:

Riverside Press Enterprise, published daily in Riverside, Riverside County, California.

Newspaper providing additional notice of Trabuco District Ranger decisions:

Orange County Register, published daily in Santa Ana, Orange County, California.

Eldorado National Forest, California

Forest Supervisor Decisions

Mountain Democrat published four-times weekly in Placerville, El Dorado County, California.

District Rangers Decisions

Mountain Democrat published four-times weekly in Placerville, El Dorado County, California.

Inyo National Forest, California

Forest Supervisor Decisions

Inyo Register published three-times weekly in Bishop, Inyo County, California.

District Rangers Decisions

Inyo Register published three-times weekly in Bishop, Inyo County, California.

Klamath National Forest, California

Forest Supervisor Decisions

Siskiyou Daily News, published daily in Yreka, Siskiyou County, California.

District Rangers Decisions

Siskiyou Daily News, published daily in Yreka, Siskiyou County, California.

Newspaper sometimes providing additional notice of Goosenest District Ranger decisions:

Klamath Falls Herald and News, published daily in Klamath Falls, Klamath County, Oregon.

Lake Tahoe Basin Management Unit, California and Nevada

Forest Supervisor Decisions

Tahoe Daily Tribune, published daily (five-times weekly) in South Lake Tahoe, El Dorado County, California.

Lassen National Forest, California

Forest Supervisor Decisions

Lassen County Times, published weekly in Susanville, Lassen County, California.

District Rangers Decisions

Eagle Lake Ranger District:

Lassen County Times, published weekly in Susanville, Lassen County, California.

Almanor Ranger District:

Chester Progressive, published weekly in Chester, Plumas County, California.

Hat Creek Ranger District:

Intermountain News, published weekly in Burney, Shasta County, California.

Los Padres National Forest, California

Forest Supervisor Decisions

Santa Barbara News Press, published daily in Santa Barbara, Santa Barbara County, California.

District Rangers Decisions

Monterey Ranger District:

Monterey County Herald, published daily in Monterey, Monterey County, California.

Santa Lucia Ranger District:

Telegram Tribune, published daily in San Luis Obispo, San Luis Obispo County, California.

Santa Barbara Ranger District:

Santa Barbara News Press, published daily in Santa Barbara, Santa Barbara County, California.

Ojai Ranger District: Ventura County Star, published daily in Ventura, Ventura County, California.

Mt. Pinos Ranger District:

The Bakersfield Californian, published daily in Bakersfield, Kern County, California.

Mendocino National Forest, California

Forest Supervisor Decisions

Chico Enterprise-Record, published daily in Chico, Butte County, California.

District Rangers Decisions

Grindstone Ranger District:

Chico Enterprise-Record, published daily in Chico, Butte County, California.

Upper Lake and Covelo Districts:

Ukiah Daily Journal, published daily in Ukiah, Mendocino County, California.

Modoc National Forest, California

Forest Supervisor Decisions

Modoc County Record, published weekly in Alturas, Modoc County, California.

District Rangers Decisions

Warner Mountain Ranger District:

Modoc County Record, published weekly in Alturas, Modoc County, California.

Devil's Garden Ranger District:

Modoc County Record, published weekly in Alturas, Modoc County, California.

Big Valley Ranger District:

Modoc County Record, published weekly in Alturas, Modoc County, California.

Doublehead Ranger District: Herald and News, published daily in Klamath Falls, Klamath County, Oregon.

Newspaper providing additional notice of Doublehead District Ranger decisions:

Modoc County Record, published weekly in Alturas, Modoc County, California.

Plumas National Forest, California

Forest Supervisor Decisions

Feather River Bulletin, published weekly in Quincy, Plumas County, California.

District Rangers Decisions

Beckwourth Ranger District:

Portola Reporter, published weekly in Portola, Plumas County, California.

Newspaper occasionally providing additional notice of Beckwourth District Ranger decisions:

Feather River Bulletin, published weekly in Quincy, Plumas County, California.

Feather River Ranger District:

Oroville Mercury Register, published daily in Oroville, Butte County, California.

Newspaper occasionally providing additional notice of Feather River District Ranger decisions:

Feather River Bulletin, published weekly in Quincy, Plumas County, California.

Mt. Hough Ranger District:

Feather River Bulletin, published weekly in Quincy, Plumas County, California.

Newspapers occasionally providing additional notice of Mt. Hough District Ranger decisions:

Portola Reporter, published weekly in Portola, Plumas County, California; Chester Progressive, published weekly in Plumas County, California; and Lassen County Times, published weekly in Lassen County, California.

San Bernardino National Forest, California

Forest Supervisor Decisions

San Bernardino Sun, published daily in San Bernardino, San Bernardino County, California.

District Rangers Decisions

Mountaintop Ranger District—Arrowhead Area:

Mountain News, published weekly in Blue Jay, San Bernardino County, California.

Mountaintop Ranger District—Big Bear Area:

Big Bear Life and Grizzly, published weekly in Big Bear, San Bernardino County, California.

Front Country Ranger District:

San Bernardino Sun, published daily in San Bernardino, San Bernardino County, California.

San Jacinto Ranger District:

Idyllwild Town Crier, published weekly in Idyllwild, Riverside County, California.

Sequoia National Forest, California

Forest Supervisor Decisions

Porterville Recorder, published daily (except Sunday) in Porterville, Tulare County, California.

Newspaper occasionally providing additional notice of Forest Supervisor decisions:

The Bakersfield Californian, published daily in Bakersfield, Kern County, California;

District Rangers Decisions

Porterville Recorder, published daily (except Sunday) in Porterville, Tulare County, California.

Newspaper occasionally providing additional notice of District Rangers decisions:

The Bakersfield Californian, published daily in Bakersfield, Kern County, California;

Shasta-Trinity National Forest, California

Forest Supervisor Decisions

Record Searchlight, published daily in Redding, Shasta County, California.

District Rangers Decisions

Record Searchlight, published daily in Redding, Shasta County, California.

Sierra National Forest, California

Forest Supervisor Decisions

Fresno Bee, published daily in Fresno, Fresno County, California.

District Rangers Decisions

Fresno Bee, published daily in Fresno, Fresno County, California.

Six Rivers National Forest, California

Forest Supervisor Decisions

Times Standard, published daily in Eureka, Humboldt County, California.

District Rangers Decisions

Smith River National Recreation Area:

Del Norte Triplicate, published daily (five-times weekly) in Crescent City, Del Norte County, California.

Mad River, Orleans, and Lower Trinity Districts:

Times-Standard, published daily in Eureka, Humboldt County, California.

Stanislaus National Forest, California

Forest Supervisor Decisions

The Union Democrat, published daily (five-times weekly) in Sonora, Tuolumne County, California.

District Rangers Decisions

The Union Democrat, published daily (five-times weekly) in Sonora, Tuolumne County, California.

Newspaper sometimes providing additional notice of Groveland District Ranger decisions:

Mariposa Gazette, published weekly in Mariposa, Mariposa County, California.

Newspaper sometimes providing additional notice of Calaveras District Ranger decisions:

Calaveras Enterprise, published twice weekly in San Andreas, Calaveras County, California.

Tahoe National Forest, California

Forest Supervisor Decisions

The Union, published daily (except Sunday) in Grass Valley, Nevada County, California.

District Rangers Decisions

American River Ranger District:

Auburn Journal, published daily in Auburn, Placer County, California.

Sierraville Ranger District:

Mountain Messenger, published weekly in Downieville, Sierra County, California.

Newspapers providing additional notice of Sierraville District Ranger decisions:

Sierra Booster, published weekly in Loyalton, Sierra County, California; and Portola Recorder, published weekly in Portola, Plumas County, California.

Truckee Ranger District: Sierra Sun, published five-times weekly in Truckee, Nevada County, California.

Yuba River Ranger District:

The Union, published daily (except Sunday) in Grass Valley, Nevada County, California.

Newspaper providing additional notice of Yuba River District Ranger decisions:

Mountain Messenger, published weekly in Downieville, Sierra County, California.

Dated: January 25, 2007.
Thomas L. Tidwell,
Deputy Regional Forester.

[FR Doc. E7-1599 Filed 2-7-07; 8:45 am]

BILLING CODE 3410-11-P